DEPARTMENT OF COMMERCE

International Trade Administration

[A-427-831]

Methionine From France: Antidumping Duty Order

AGENCY: Enforcement and Compliance, International Trade Administration, Department of Commerce.

SUMMARY: Based on affirmative final determinations by the Department of Commerce (Commerce) and the International Trade Commission (ITC), Commerce is issuing an antidumping duty (AD) order on methionine from France.

FOR FURTHER INFORMATION CONTACT: Zachary Shaykin, AD/CVD Operations, Office IV, Enforcement and Compliance, International Trade Administration, U.S. Department of Commerce, 1401 Constitution Avenue NW, Washington, DC 20230; telephone: (202) 482-2638.

SUPPLEMENTARY INFORMATION:

Background

In accordance with sections 735(d) and 777(i)(1) of the Tariff Act of 1930, as amended (the Act), on May 17, 2021, Commerce published its Final Determination in the less-than-fair-value (LTFV) investigation of imports of methionine from France in which it found that sales of methionine from France were at LTFV and that critical circumstances existed for the mandatory respondent in the investigation but did not exist for all other producers and exporters.¹ On June 30, 2021, the ITC notified Commerce of its final affirmative determination that an industry in the United States is materially injured within the meaning of section 735(b)(1)(A)(i) of the Act, by reason of the LTFV imports of methionine from France, and its determination that critical circumstances do not exist with respect to methionine from France subject to Commerce's partial affirmative critical circumstances determination on May 17, 2021.²

¹ See Methionine from France: Final Determination of Sales at Less Than Fair Value and Final Partial Determination of Critical Circumstances, 86 FR 26697 (May 17, 2021) (Final Determination).

² See ITC's Letter, ITC Notification, dated June 30, 2021.

Scope of the Order

The product covered by this order is methionine from France. For a full description of the scope of the order, see the appendix to this notice.

Antidumping Duty Order

On June 30 2021, in accordance with sections 735(b)(1)(A)(i) and 735(d) of the Act, the ITC notified Commerce of the ITC Final Determinations that an industry in the United States is materially injured by reason of imports of methionine from France and its determination that critical circumstances do not exist with respect to imports of subject merchandise from France that are subject to Commerce's affirmative critical circumstances finding. Therefore, in accordance with section 735(c)(2) of the Act, we are issuing this AD order on methionine from France. Because Commerce has determined that sales of methionine from France were made at LTFV, and the ITC determined that imports of methionine from France are materially injuring the U.S. industry, unliquidated entries of such merchandise from France entered, or withdrawn, for consumption are subject to the assessment of antidumping duties.

Therefore, in accordance with section 736(a)(1) of the Act, Commerce intends to direct U.S. Customs and Border Protection (CBP) to assess, upon further instruction by Commerce, antidumping duties equal to the amount by which the normal value of the merchandise exceeds the export price (or constructed export price) of the merchandise for all relevant entries of methionine from France. As further described below, antidumping duties will be assessed on unliquidated entries of methionine entered, or withdrawn from warehouse, for consumption, on or after March 4, 2021, the date of publication of the Preliminary Determination,³ but will not include entries occurring after the expiration of the provisional measures period and before publication of the ITC's final injury determination, as further described below.

³ See Methionine From France: Preliminary Affirmative Determination of Sales at Less Than Fair Value and Partial Affirmative Determination of Critical Circumstances, 86 FR 12627 (March 4, 2021) (Preliminary Determination).

Continuation of Suspension of Liquidation

Except as noted in the “Provisional Measures” section of this notice, in accordance with section 735(c)(1)(B) of the Act, Commerce intends to instruct CBP to continue to suspend liquidation on all relevant entries of methionine from France. These instructions suspending liquidation will remain in effect until further notice. Pursuant to 735(c)(1)(B) of the Act and 19 CFR 351.210(d), Commerce also intends to instruct CBP to require cash deposits equal to the estimated weighted-average dumping margins indicated in the table below. Accordingly, effective on the date of publication in the Federal Register of the notice of the ITC's final affirmative injury determination,⁴ CBP must require, at the same time as importers would normally deposit estimated customs duties on subject merchandise, a cash deposit equal to the rates listed in the table below. The all-others rate applies to producers and exporters not specifically listed, as appropriate.

⁴ See Methionine from France (Inv. No. 731-TA-1534 (Final)), 86 FR 35826 (July 7, 2021) (ITC Final Determination).

Critical Circumstances

With regard to instances in which entries of subject merchandise were produced and exported by Adisseo France S.A.S. and Commentry (collectively, Adisseo), or produced by Adisseo and exported by a company not specified in the table below, within 90 days prior to the publication of the Preliminary Determination, then, pursuant to section 735(c)(1)(B)(ii) of the Act, Commerce had instructed CBP to require a cash deposit for such entries of subject merchandise at a rate equal to the estimated weighted-average dumping margin established for Adisseo.

However, with regard to the ITC's negative critical circumstances determination on imports of methionine from France, we will instruct CBP to lift suspension and to refund all cash deposits made to secure the payment of estimated antidumping duties with respect to entries of the subject merchandise attributed to all parties entered, or withdrawn from warehouse, for consumption on or after December 4, 2020 (i.e., 90 days prior to the date of the publication of the Preliminary Determination), but before March 4, 2021 (i.e., the date of publication of the Preliminary Determination).

Estimated Weighted-Average Dumping Margins

The estimated weighted-average dumping margins are as follows:

Exporter or producer | Estimated weighted- average dumping margin (percent)
Adisseo France S.A.S. and Commentry | 43.82
All Others | 16.17

Provisional Measures

Section 733(d) of the Act states that suspension of liquidation pursuant to an affirmative preliminary determination may not remain in effect for more than four months, except where exporters representing a significant proportion of exports of the subject merchandise request that commerce extend the four-month period to no more than six months. For this investigation, Commerce decided not to extend the four-month period to six months. Commerce published the Preliminary Determination in this investigation on March 4, 2021.⁵

⁵ Id.

The provisional measures period, beginning on the date of publication of the preliminary determination, ended on July 1, 2021. Therefore, in accordance with section 733(d) of the Act and our practice, Commerce will instruct CBP to terminate the suspension of liquidation, to refund all cash deposits for estimated antidumping duties, and to liquidate, without regard to antidumping duties, unliquidated entries of methionine from France entered, or withdrawn from warehouse, for consumption after July 1, 2021, the final day on which the provisional measures were in effect, until and through the day preceding the date of publication of the ITC's final affirmative injury determination in the Federal Register (i.e., through July 6, 2021).⁶ Suspension of liquidation and the collection of cash deposits will resume on the date of publication of the ITC's final determination in the Federal Register (i.e., July 7, 2021).

⁶ See ITC Final Determination.

Notification to Interested Parties

This notice constitutes the AD order with respect to methionine from France, pursuant to section 736(a) of the Act. Interested parties can find a list of AD orders currently in effect at http://enforcement.trade.gov/stats/iastats1.html.

This order is published in accordance with section 736(a) of the Act and 19 CFR 351.211(b).

Dated: July 8, 2021.
James Maeder,
Deputy Assistant Secretary for Antidumping and Countervailing Duty Operations.

Appendix

Scope of the Order

The merchandise covered by this order is methionine and dl-Hydroxy analogue of dl-methionine, also known as 2-Hydroxy 4-(Methylthio) Butanoic acid (HMTBa), regardless of purity, particle size, grade, or physical form. Methionine has the chemical formula C5H11NO2S, liquid HMTBa has the chemical formula C5H10O3S, and dry HMTBa has the chemical formula (C5H9O3S)2Ca.

Subject merchandise also includes methionine processed in a third country including, but not limited to, refining, converting from liquid to dry or dry to liquid form, or any other processing that would not otherwise remove the merchandise from the scope of this order if performed in the country of manufacture of the in-scope methionine or dl-Hydroxy analogue of dl-methionine.

The scope also includes methionine that is commingled (i.e., mixed or combined) with methionine from sources not subject to this order. Only the subject component of such commingled products is covered by the scope of this order.

Excluded from this order is United States Pharmacopoeia (USP) grade methionine. In order to qualify for this exclusion, USP grade methionine must meet or exceed all of the chemical, purity, performance, and labeling requirements of the United States Pharmacopeia and the National Formulary for USP grade methionine.

Methionine is currently classified under subheadings 2930.40.00.00 and 2930.90.46.00 of the Harmonized Tariff Schedule of the United States (HTSUS). Methionine has the Chemical Abstracts Service (CAS) registry numbers 583-91-5, 4857-44-7, 59-51-8 and 922-50-9. While the HTSUS subheadings and CAS registry number are provided for convenience and customs purposes, the written description of the scope of this order is dispositive.

[FR Doc. 2021-14893 Filed 7-12-21; 8:45 am]

BILLING CODE 3510-DS-P